DEPARTMENT OF COMMERCE

National Oceanic and Atmospheric Administration

RIN 0648-XD319

Western Pacific Fishery Management Council; Public Meetings; Correction

AGENCY: National Marine Fisheries Service (NMFS), National Oceanic and Atmospheric Administration (NOAA), Commerce.

ACTION: Notice of amendment to a public meeting notice.

SUMMARY: The Western Pacific Fishery Management Council (Council) announces a change in the dates for its Advisory Panel (AP) Meeting and change in agenda for the 116th Scientific and Statistical Committee Meeting and 160th Council Meeting.

DATES: The 116th SSC meeting on June 17-19, 2014 between 8:30 a.m. and 5 p.m.; The AP meeting will be held on June 20-21, 2014 between 1 p.m. and 5 p.m. at the Council Office in Honolulu, HI; and the 160th Council Meeting will be held between 8:30 a.m. and 5 p.m. on June 25-27, 2014 at the YWCA in Honolulu, HI. For specific times and agenda, see SUPPLEMENTARY INFORMATION.

ADDRESSES: The SSC and AP Meeting will be held at the Council office, 1164 Bishop Street, Suite 1400, Honolulu, HI 96813; telephone: (808) 522-8220.

The 160th Council meeting will be held at the Laniakea YWCA-Fuller Hall, 1040 Richards Street, Honolulu, HI 96813; telephone: (808) 538-7061.

FOR FURTHER INFORMATION CONTACT: Kitty M. Simonds, Executive Director; telephone: (808) 522-8220.

SUPPLEMENTARY INFORMATION: This notice is being re-published in its entirety due to a change in dates of the AP meeting and change in Council Meeting agenda. The original notice published in the Federal Register on June 2, 2014 (79 FR 31310). The original notice noted the AP Meeting date as June 19-20, 2014. The new dates of the meeting are June 20-21, 2014. The AP the agenda remains the same and the SSC and Council Meeting agendas are changed as follows:

Schedule and Agenda for 116th SSC Meeting

8:30 a.m.-5 p.m., Tuesday, June 17, 2014

1. Introductions

2. Approval of Draft Agenda and Assignment of Rapporteurs

3. Status of the 115th SSC Meeting Recommendations

4. Report from the Pacific Islands Fisheries Science Center Director

5. Insular Fisheries

A. CNMI Bottomfish Amendment (Action Item)

B. Main Hawaiian Islands (MHI) Deep 7 Stock Assessment

C. Regulatory changes to the MHI bottomfish fishery (Action Item)

D. Main Hawaiian Island (MHI) Bottomfish Restricted Fishing Area (BRFA) Management Plan

E. Public Comment

F. SSC Discussion and Recommendations

6. Program Planning

A. Stock Assessment Prioritization Review (Action Item)

B. Specifying Acceptable Biological Catches for the crustacean, precious corals, coral reef, MHI Deep 7, and Hawaii non-deep 7 bottomfish in the Western Pacific Region (Action Item)

C. Evaluation of 2013 catch relative to 2013 Annual Catch Limits (Action Item)

D. Report on the Hawaii and Joint Archipelagic Plan Team meeting

E. Regional Strategic Plan for Fishery Data Collection and Research

F. Council 5-year Research Priorities

1. Ecosystem and Stocks

2. Human Communities

3. Protected Species

G. Public Comment

H. SSC Discussion and Recommendations

8:30 a.m.-5 p.m., Wednesday, June 18, 2014

7. Pelagic Fisheries

A. Modification of American Samoa Large Vessel Prohibited Area (Action Item)

B. Experimental Fishing Permit—American Samoa large vessel prohibited area (Action Item)

C. Overfishing determination for Western & Central Pacific Ocean North Pacific striped marlin (Action Item)

D. Longline Fisheries Quarterly Reports

1. Hawaii

2. American Samoa

E. Cost-Earning Study of Hawaii Longline Fishery

F. Bigeye Tuna Movement Workshop

G. Disproportionate Burden Workshop

H. International Fisheries

1. Inter-American Tropical Tuna Commission (IATTC) Science Committee

I. Public Comment

J. SSC Discussion and Recommendations

8. Protected Species

A. Updated Data on False Killer Whale Distribution and Stock Boundaries

B. Analysis of Impacts under the Deep-set Longline Biological Opinion and Marine Mammal Protection Act (MMPA) Permit

C. Updates on Endangered Species Act (ESA) and MMPA Actions

1. Update on the False Killer Whale Take Reduction Plan Implementation

2. Final Determination to List 66 Species of Coral under the ESA

3. Final Determination to List Scalloped Hammerhead Shark under the ESA

4. Green Turtle Status Review

5. North Pacific Humpback Whale Status Review

6. Other Relevant Actions

D. Public Comment

E. SSC Discussion and Recommendations

8:30 a.m.-12 Noon, Thursday, June 19, 2014

9. Other Business

A. 117th SSC Meeting

10. Summary of SSC Recommendations to the Council

Schedule and Agenda for AP Meeting

2:00 p.m.-5 p.m., Friday, June 20, 2014

1. Welcoming Remarks

2. Overview and Introductions

3. Meeting Expectations

4. Advisory Panel Review

A. Presentation of Plan

1. Membership

2. Duties and Responsibilities

3. Meetings and Reports

4. Communication and Outreach

B. 2015-18 AP Solicitation Application Review

C. Next Steps

5. Public Hearing

6. Discussion and Recommendations

8 a.m.-5 p.m., Saturday, June 21, 2014

7. Report on Fishery/Community Issues and Council Support

A. American Samoa

B. Guam

C. Commonwealth of the Northern Mariana Islands (CNMI)

D. Hawaii-Pacific Remote Island Areas (PRIA)

8. Science Presentation “Status of Nearshore Stocks”

9. Council Meeting Items for Discussion and Action

A. Stock Assessment Prioritization

B. ACL Specifications

1. Crustacean, Precious Corals, coral reef, Hawaii non-Deep 7 Bottomfish

2. Hawaii Deep 7 Bottomfish

3. Evaluation of ACLs and Catch

C. CNMI Bottomfish Closure Modification

D. American Samoa Large Vessel Prohibited Area

1. Proposed Modifications

2. Experimental Fishing Permit

E. Overfished Determination of Striped Marlin

F. Protected Species

1. Green Sea Turtle Management Plan

2. Update on Endangered Species Act Petitions

3. Discussion on Nearshore Interactions with Protected Species

10. Other Business

11. Public Hearing

12. Discussion and Recommendations

Schedule and Agenda for 160th Council Meeting

8:30 a.m.-5 p.m., Wednesday, June 25, 2014

1. Welcome and Introductions

2. Opening Remarks

3. Approval of the 160th Agenda

4. Approval of the 159th Meeting Minutes

5. Executive Director's Report

6. Agency Reports

A. National Marine Fisheries Service

1. NMFS Agency Report

2. Pacific Islands Regional Office

3. Pacific Islands Fisheries Science Center (PIFSC)

B. NOAA General Counsel, Pacific Island Section

C. U.S. Fish and Wildlife Service

D. Enforcement

1. U.S. Coast Guard

2. NMFS Office for Law Enforcement

3. NOAA General Counsel for Enforcement

E. Public Comment

F. Council Discussion and Action

7. Program Planning and Research

A. Stock assessment prioritization review (Action Item)

B. Specifying Annual Catch Limits for the crustacean, precious corals, coral reef, Hawaii non-deep 7 bottomfish in the Western Pacific Region (Action Item)

D. Evaluation of 2013 catch relative to 2013 ACLs (Action Item)

E. Proposed NOAA Recreational Saltwater Fishing Policy

F. Council 5-year Research Priorities

1. Ecosystem and Stocks

2. Human Communities

3. Protected Species

G. Marine Fisheries Advisory Committee (MAFAC) National Seafood Certification

H. National, Regional and International Education

I. Advisory Group Reports and Recommendations

1. Joint Archipelagic Plan Team

2. Joint Advisory Panel

3. Fishery Data Collection and Research Committee

4. Fishing Industry Advisory Committee

5. Report of the Social Science Research Committee

6. Marine Planning and Climate Change Committee

J. SSC Recommendations

K. Public Hearing

L. Council Discussion and Action

6 p.m.-9 p.m., Wednesday, June 25, 2014

Fishers Forum on Non-Commercial Fishing & Recreational Saltwater Fishing Policy Listening Session

8:30 a.m.-5 p.m., Thursday, June 26, 2014

8. American Samoa Archipelago

A. Motu Lipoti

B. Fono Report

C. Enforcement Issues

D. Community Activities and Issues

1. Update on Community Fisheries Development

2. Seafood Market Training Workshop

E. Fishery Disaster Relief Funds

F. Marine Conservation Plan

G. Education and Outreach Initiatives

H. American Samoa National Marine Sanctuary

I. Rose Atoll Marine National Monument

J. Advisory Group Reports and Recommendations

1. American Samoa Regional Ecosystem Advisory Committee

2. Joint AP

3. Joint Archipelagic Plan Team

4. FIAC

5. SSRC

6. MPCC

K. SSC Recommendations

L. Public Comment

M. Council Discussion and Action

9. Hawaii Archipelago

A. Moku Pepa

B. Legislative Report

C. Enforcement

D. Main Hawaiian Island (MHI) Bottomfish

1. Report on MHI Bottomfish Stock Assessment

2. Deep-7 ACL Specification (Action Item)

3. State of Hawaii Bottomfish Restricted Fishing Areas (BRFAs) Management Plan

4. Regulatory Changes for MHI Bottomfish (Action Item)

E. Community Projects, Activities and Issues

1. Supporting the Aha Moku System

2. Outreach and Education Report

F. Hawaiian Humpback Whale National Marine Sanctuary

G. Papahanaumokuakea Marine National Monument

H. Habitat Blue Print—West Hawaii

I. Pacific Remote Island Areas (PRIA)/Hawaii Western Pacific Sustainable Fisheries Fund Marine Conservation Plan

J. Advisory Group Reports and Recommendations

1. Joint AP

2. Hawaii Plan Team

3. Archipelagic Plan Team

4. FIAC

5. SSRC

6. MPCC

K. SSC Recommendations

L. Public Comment

M. Council Discussion and Action

10. Protected Species

A. Updated Data on False Killer Whale Distribution and Stock Boundaries

B. Analysis of Impacts under the Deep-set Longline Biological Opinion and MMPA Permit

C. Updates on ESA and MMPA Actions

1. Update on the False Killer Whale Take Reduction Plan Implementation

2. Final Determination to List 66 Species of Coral as Endangered or Threatened under the ESA

3. Final Determination to List Scalloped Hammerhead Shark under the ESA

4. Green Turtle Status Review

5. North Pacific Humpback Whale Petition

6. Other Relevant Actions

D. Management of Green Sea Turtles

E. Advisory Group Recommendations

1. Joint AP

2. Pelagic PT

3. Archipelagic PT

4. FIAC

5. SSRC

6. MPCC

F. SSC Recommendations

G. Public Comment

H. Council Discussion and Action

11. Public Comment on Non-Agenda Items

9 a.m.-5 p.m., Friday June 27, 2014

12. Mariana Archipelago

A. Guam

1. Isla Informe

2. Legislative Report

3. Enforcement Issues

4. Report on Guam Projects and Programs

a. Fisheries Development Projects

b. Data Collection Projects

5. Habitat Blue Print—Manell-Gues

B. Commonwealth of the Northern Mariana Islands

1. Arongol Falu

2. Legislative Report

3. Enforcement Issues

4. Bottomfish Area Closure Modification (Action Item)

5. Status Report on CNMI Projects and Programs

a. Data Collection Efforts

C. Guam and CNMI Marine Conservation Plans

D. Marianas Trench Marine National Monument: Islands, Volcanic and Trench Units

E. Education and Outreach Initiatives

F. Advisory Group Reports and Recommendations

1. Joint AP

2. Archipelagic PT

3. FIAC

4. SSRC

5. MPCC

G. SSC Recommendations

H. Public Hearing

I. Council Discussion and Action

13. Pelagic & International Fisheries

A. Modification to the American Samoa large vessel prohibited area (Action Item)

B. Experimental Fishing Permit—American Samoa Large Vessel Prohibited Area (Action Item)

C. Overfished determination for WCPO NP striped marlin (Action Item)

D. Longline Fisheries Quarterly Reports

1. Hawaii

2. American Samoa

E. Bigeye Tuna Movement Workshop

F. Disproportionate Burden Workshop

G. International Fisheries

1. IATTC Science Committee

H. Advisory Group Recommendations

1. Joint AP

2. Pelagic PT

3. FIAC

4. SSRC

5. MPCC

I. SSC Recommendations

J. Standing Committee Recommendations

K. Public Hearing

L. Council Discussion and Recommendations

14. Administrative Matters

A. Financial Reports

B. Administrative Reports

C. Standard Operating Practices and Procedures (SOPP) Review and Changes

D. Council Family Changes

E. Advisory Panel Review and Plan

F. Meetings and Workshops

1. May Council Coordinating Committee

G. Report on Magnuson-Stevens Act (MSA) Reauthorization

H. Other Business

I. Standing Committee Recommendations

J. Public Comment

K. Council Discussion and Action

15. Other Business

Non-Emergency issues not contained in this agenda may come before the Council for discussion and formal Council action during its 160th meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least five days prior to the meeting date.

Authority: 16 U.S.C. 1801 et seq.

Dated: June 3, 2014.
Tracey L. Thompson,
Acting Deputy Director, Office of Sustainable Fisheries, National Marine Fisheries Service.

[FR Doc. 2014-13211 Filed 6-5-14; 8:45 am]

BILLING CODE 3510-22-P